DEPARTMENT OF COMMERCE

National Institute of Standards and Technology

Proposed Information Collection; Comment Request; NIST Entrance on Duty (EOD) System

AGENCY: National Institute of Standards and Technology, Commerce.

ACTION: Notice.

SUMMARY: The Department of Commerce, as part of its continuing effort to reduce paperwork and respondent burden, invites the general public and other federal agencies to take this opportunity to comment on proposed and/or continuing information collections, as required by the Paperwork Reduction Act of 1995.

DATES: Written comments must be submitted on or before February 1, 2019.

ADDRESSES: Direct all written comments to Jennifer Jessup, Departmental Paperwork Clearance Officer, Department of Commerce, Room 6616, 1401 Constitution Avenue NW, Washington, DC 20230 (or via the internet at PRAcomments@doc.gov).

FOR FURTHER INFORMATION CONTACT: Requests for additional information or copies of the information collection instrument and instructions should be directed to Kellie Beall, NIST, 100 Bureau Drive, Gaithersburg, MD 20899, (301) 975-5643, kbeall@nist.gov.

SUPPLEMENTARY INFORMATION:

I. Abstract

In an effort to streamline processes onboarding new employees and associates, the National Institute of Standards and Technology (NIST) is preparing to establish a new electronic based EOD (Enter on Duty) System to include automation of all of the necessary steps between applicant selection and reporting for duty, including completion of pre-employment and orientation paperwork by entering information through the EOD system. This EOD solution is intended to increase the efficiency with which new employees are hired by automating the provisioning process and alerting individuals as tasks are completed. The system will utilize an upfront information collection instrument which will subsequently populate information collection instrument(s) required of the incoming Federal employees and NIST Associates. Information requested will include personal identifying data including home address, date and place of birth, employer name and address, and basic security information. Once populated, the individual will be required to validate the information.

II. Method of Collection

Prior to entering on duty with NIST as a federal employee or associate, each new entrant will receive a communication from NIST requesting that he/she log in to the EOD system and verify/complete their personnel data. The communication will provide the relevant link and login information to the web based NIST EOD System.

The new entrant will log in to the EOD system and, based on the new entrant's federal employment or NIST associate category, will be presented with instructions and information regarding the data they will be required to supply. This initial information collection will then populate other required information collections which will be validated and electronically signed by the new entrant.

III. Data

OMB Control Number: New Collection. 0693-XXXX.

Form Number(s): None.

Type of Review: Regular submission.

Affected Public: Individuals seeking employment with NIST.

Estimated Number of Respondents: NIST estimates 4,300 new federal employees and NIST associates will be processed per year.

Estimated Time per Response: It is estimated that it will take 40 minutes to complete the data collection.

Estimated Total Annual Burden Hours: 4,300 × 40 minutes per responses = 2,866 burden hours.

Estimated Total Annual Cost to Public: There is no cost to the respondent.

IV. Request for Comments

NIST invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2018-26150 Filed 11-30-18; 8:45 am]

BILLING CODE 3510-13-P